DEPARTMENT OF AGRICULTURE

Forest Service

Willamette Provincial Advisory Committee

AGENCY: Forest Service, USDA.

ACTION: Notice of meeting.

SUMMARY: The Willamette Province Advisory Committee (PAC) will meet on Thursday, December 13, 2001. The meeting is scheduled to begin at 9 a.m., and will conclude at approximately 2 p.m. The meeting will be held at the Salem Office of the Bureau of Land Management; 1717 Fabry Road SE; Salem, Oregon; (503) 375-5646. The tentative agenda includes: (1) A status report from the PAC Subcommittees; (2) A review and evaluation of PAC activities in 2001; (3) A discussion of potential issues and agenda items for 2002 PAC activity; (4) Information sharing; (5) Public Forum. The Public Forum is tentatively scheduled to begin at 10:30 a.m. Time allotted for individual presentations will be limited to 3-4 minutes. Written comments are encouraged, particularly if the material cannot be presented within the time limits for the Public Forum. Written comments may be submitted prior to December 13 meeting by sending them to Designated Federal Official Neal Forrester at the address given below.

FOR FURTHER INFORMATION CONTACT: For more information regarding this meeting, contact Designated Federal Official Neal Forrester; Willamette National Forest; 211 East Seventh Avenue; Eugene, Oregon 97401; (541) 465-6924.

Dated: November 20, 2001.
Y. Robert Iwamoto,
Acting Forest Supervisor.

[FR Doc. 01-29439 Filed 11-26-01; 8:45 am]

BILLING CODE 3410-11-M